JUDICIAL CONFERENCE OF THE UNITED STATES

Hearings of the Judicial Conference Advisory Committees on the Federal Rules of Appellate, Bankruptcy, Civil, and Criminal Procedure

AGENCY: Judicial Conference of the United States, Advisory Committees on the Federal Rules of Appellate, Bankruptcy, Civil, and Criminal Procedure.

ACTION: Notice of proposed amendments and open hearings.

SUMMARY: The Advisory Committees on the Federal Rules of Appellate, Bankruptcy, Civil, and Criminal Procedure have proposed amendments to the following rules and forms:

Appellate Rules: 8, 11, 25, 28.1, 29, 31, 39, and 41, and Form 4

Bankruptcy Rules: 3002.1, 5005, 8002, 8006, 8011, 8013, 8015, 8016, 8017, new Rule 8018.1, 8022, 8023, and new Part VIII Appendix; and Official Forms 309F, 417A, 417C, 425A, 425B, 425C, and 426

Civil Rules: 5, 23, 62, and 65.1

Criminal Rules: 12.4, 45, and 49

The text of the proposed rules and the accompanying Committee Notes are posted on the Judiciary's Web site at: http://www.uscourts.gov/rules-policies/proposed-amendments-published-public-comment.

All written comments and suggestions with respect to the proposed amendments may be submitted on or after the opening of the period for public comment on August 15, 2016, but no later than February 15, 2017. Written comments must be submitted electronically, following the instructions provided on the Web site. All comments submitted will be available for public inspection.

Public hearings are scheduled to be held on these proposed amendments as follows:

• Appellate Rules in Washington, DC, on October 17, 2016, and in Denver, Colorado, on January 20, 2017;

• Bankruptcy Rules in Pasadena, California, on January 24, 2017;

• Civil Rules in Washington, DC, on November 3, 2016, in Phoenix, Arizona, on January 4, 2017, and in Dallas/Fort Worth, Texas, on February 16, 2017;

• Criminal Rules in Phoenix, Arizona, on January 4, 2017, and in Washington, DC, on February 24, 2017.

Those wishing to testify must contact the Secretary by email at: Rules_Support@ao.uscourts.gov, with a copy mailed to the address below at least 30 days before the hearing.

FOR FURTHER INFORMATION CONTACT: Rebecca A. Womeldorf, Secretary, Committee on Rules of Practice and Procedure of the Judicial Conference of the United States, Thurgood Marshall Federal Judiciary Building, One Columbus Circle NE., Suite 7-240, Washington, DC 20544, Telephone (202) 502-1820.

Dated: August 4, 2016.
Rebecca A. Womeldorf,
Secretary, Committee on Rules of Practice and Procedure, Judicial Conference of the United States.

[FR Doc. 2016-18874 Filed 8-8-16; 8:45 am]

BILLING CODE 2210-55-P